FEDERAL COMMUNICATIONS COMMISSION

Federal Advisory Committee Act; Communications Security, Reliability, and Interoperability Council

AGENCY: Federal Communications Commission.

ACTION: Notice.

SUMMARY: In accordance with the Federal Advisory Committee Act, this document advises interested persons that the Federal Communications Commission's (FCC or Commission) Communications Security, Reliability, and Interoperability Council (CSRIC) VI will hold its third meeting.

DATES: December 12, 2017.

ADDRESSES: Federal Communications Commission, Room TW-C305 (Commission Meeting Room), 445 12th Street SW, Washington, DC 20554.

FOR FURTHER INFORMATION CONTACT: Jeffery Goldthorp, Designated Federal Officer, (202) 418-1096 (voice) or jeffery.goldthorp@fcc.gov (email); or Suzon Cameron, Deputy Designated Federal Officer, (202) 418-1916 (voice) or suzon.cameron@fcc.gov (email).

SUPPLEMENTARY INFORMATION: The notice of this meeting was first published in the Federal Register on December 5, 2017, only 7 days in advance of the meeting. While the publication did not meet the 15-day requirement for advance publication, exceptional circumstances warrant proceeding with the December 12, 2017 CSRIC meeting. CSRIC members and the public were informed of the December 12 meeting at the October 26, 2017 public meeting of the Council, and CSRIC members have been advised informally of the December meeting date on more than one occasion since then. In addition, the date of the December meeting has been available on the FCC's CSRIC website for at two months. A significant number of Council members have made business and travel plans in accordance with this schedule, and there is no date within one month of the planned date that will accommodate Council members' schedules. Delaying the meeting will cause undue financial burdens on many of the members and any members of the public who have made travel arrangements.

In addition, it is not possible at this time to schedule a half-day meeting in the FCC's Commission Meeting Room for any date within one month of December 12, 2017. As the December 2017 meeting date was announced at the October 2017 public meeting of the Council, the meeting has now been broadly announced to the public more than once.

The December 5, 2017, Federal Register notice is available at 82 FR 57444 (December 5, 2017) and https://www.federalregister.gov/documents/2017/12/05/2017-26159/federal-advisory-committee-act-communications-security-reliability-and-interoperability-council.

Additional information regarding the CSRIC can be found at: https://www.fcc.gov/about-fcc/advisory-committees/communications-security-reliability-and-interoperability-council.

Federal Communications Commission.
Marlene H. Dortch,
Secretary.

[FR Doc. 2017-26732 Filed 12-11-17; 8:45 am]

BILLING CODE 6712-01-P